DEPARTMENT OF HOMELAND SECURITY

Coast Guard

[Docket No. USCG-2008-0333]

Delaware River and Bay Oil Spill Advisory Committee; Meeting

AGENCY: Coast Guard, DHS.

ACTION: Notice of meeting.

SUMMARY: The Delaware River and Bay Oil Spill Advisory Committee (DRBOSAC) will meet in Lewes, DE to discuss various issues to improve oil spill prevention and response strategies for the Delaware River and Bay. This meeting will be open to the public.

DATES: The Committee will meet on Wednesday, September 9, 2009, from 2 p.m. to 4 p.m. This meeting may close early if all business is finished. Written material, requests to make oral presentations, and requests to have a copy of your material distributed to each member of the committee should reach the Coast Guard on or before September 2, 2009.

ADDRESSES: The Committee will meet at Virden Retreat Center, University of Delaware (the Harbor Room), 700 Pilottown Road, Lewes, DE 19958. Send written material and requests to make oral presentations to Gerald Conrad, Liaison to the Designated Federal Officer (DFO) of the DRBOSAC, Coast Guard Sector Delaware Bay, 1 Washington Ave., Philadelphia, PA 19147. This notice and any documents identified in the Supplementary Information section as being available in the docket may be viewed online, at http://www.regulations.gov, using docket number USCG-2008-0333.

FOR FURTHER INFORMATION CONTACT: Gerald Conrad, Liaison to the DFO of the DRBOSAC, telephone 215-271-4824.

SUPPLEMENTARY INFORMATION: Notice of this meeting is given under the Federal Advisory Committee Act, 5 U.S.C. App. (Pub. L. 92-463).

Agenda of the Meeting

The agenda for the September 9 meeting will be as follows:

(1) Opening comments.

(2) Introductions.

(3) Administrative announcements.

(4) Pre-approved presentations from the public.

(5) Debriefs from each DRBOSAC Sub-committee.

(6) Public comments.

(7) Future Committee business.

(8) Closing.

More information and detail on the meeting will be available at the committee Web site, located at https://homeport.uscg.mil/drbosac. Additional detail may be added to the agenda up to September 2, 2009.

Procedural

This meeting is open to the public. All persons entering the Harbor Room will need to sign in at the door. Please note that the meeting may close early if all business is finished.

The public will be able to make oral presentations during the meeting when given the opportunity to do so. Members of the public may seek pre-approval for their oral presentations by contacting the Coast Guard no later than September 2, 2009. The public may file written statements with the committee; written material should reach the Coast Guard no later than September 2, 2009. If you would like a copy of your material distributed to each member of the committee in advance of the meeting, please submit 35 copies to the Liaison to the DFO no later than September 2, 2009, and indicate that the material is to be distributed to committee members in advance of the September 9 meeting.

Please register your attendance with the Liaison to the DFO no later than September 2, 2009.

Information on Services for Individuals with Disabilities

For information on facilities, or services for individuals with disabilities, or to request special assistance at the meeting, contact the Liaison to the DFO as soon as possible.

Dated: August 6, 2009.
Nakeisha B. Hills,
Lieutenant Commander, U.S. Coast Guard, Preparedness Officer, Sector Delaware Bay Acting Designated Federal Officer.

[FR Doc. E9-19550 Filed 8-13-09; 8:45 am]

BILLING CODE 4910-15-P